DEPARTMENT OF TRANSPORTATION

Federal Aviation Administration

14 CFR Part 97

[Docket No. 30175; Amdt. No. 2007]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as of January 1, 1982.

ADDRESSES: Availability of matter incorporated by reference in the amendment is as follows:

For Examination—

1. FAA Rules Docket, FAA Headquarters Building, 800 Independence Avenue, SW., Washington, DC 20591;

2. The FAA Regional Office of the region in which affected airport is located; or

3. The Flight Inspection Area Office which originated the SIAP.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, US Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description on each SIAP is contained in the appropriate FAA Form 8260 and the National Flight Data Center (FDC)/Permanent (P) Notices to Airmen (NOTAM) which are incorporated by reference in the amendment under 5 U.S.C. 552(a), 1 CFR part 51, and § 97.20 of the Federal Aviation's Regulations (FAR). Materials incorporated by reference are available for examination or purchase as stated above.

The large number of SIAPs, their complex nature, and the need for a special format make their verbatim publication in the Federal Register expensive and impractical. Further, airmen do not use the regulatory text of the SIAPs, but refer to their graphic depiction of charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 of the Federal Aviation Regulations (14 CFR part 97) establishes, amends, suspends, or revokes SIAPs. For safety and timeliness of change considerations, this amendment incorporates only specific changes contained in the content of the following FDC/P NOTAMs for each SIAP. The SIAP information in some previously designated FDC/Temporary (FDC/T) NOTAMs is of such duration as to be permanent. With conversion to FDC/P NOTAMs, the respective FDC/T NOTAMs have been canceled.

The FDC/P NOTAMs for the SIAPs contained in this amendment are based on the criteria contained in the U.S. Standard for Terminal Instrument Procedures (TERPS). In developing these chart changes to SIAPs by FDC/P NOTAMs, the TERPS criteria were applied to only these specific conditions existing at the affected airports. All SIAP amendments in this rule have been previously issued by the FAA in a National Flight Data Center (FDC) Notice to Airmen (NOTAM) as an emergency action of immediate flight safety relating directly to published aeronautical charts. The circumstances which created the need for all these SIAP amendments requires making them effective in less than 30 days.

Further, the SIAPs contained in this amendment are based on the criteria contained in the TERPS. Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory rule” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Navigation (Air).

Issued in Washington, DC on August 18, 2000.
L. Nicholas Lacey,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

Part 97—STANDARD INSTRUMENT APPROACH PROCEDURES

1. The authority citation for part 97 is revised to read as follows:

Authority: 49 U.S.C. 40103, 40113, 40120, 44701; 49 U.S.C. 106(g); and 14 CFR 11.49(b)(2).

2. Part 97 is amended to read as follows:

§§ 97.23, 97.25, 97.27, 97.29, 97.31, 97.33, 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

* * * EFFECTIVE UPON PUBLICATION

FDC date | State | City | Airport | FDC No. | SIAP
07/02/00 | LA | Oakdale | Allen Parish | 0/8721 | NDB RWY 35, Orig ... REPLACES TL00-18
07/31/00 | LA | Shreveport | Shreveport Regional | 0/9318 | LOC RWY 5, AMDT 1 ... THIS REPLACES FDC 0/8641
08/02/00 | MN | Duluth | Duluth Intl | 0/8786 | ILS RWY 27, AMDT 8 ...
08/03/00 | AZ | Chandler | Chandler Muni | 0/8826 | GPS RWY 4L, Orig ...
08/03/00 | OK | Stillwater | Stillwater Regional | 0/8863 | NDB RWY 17, Orig-A ...
08/04/00 | AK | Bethel | Bethel | 0/8905 | GPS RWY 18, Orig ...
08/04/00 | AK | Bethel | Bethel | FDC 0/8906 | GPS RWY 36, Orig ...
08/04/00 | AK | Kenai | Kenai Muni | 0/8907 | NDB-A, AMDT 3 ...
08/04/00 | AK | Kenai | Kenai Muni | 0/8908 | GPS RWY 19R, Orig-A ...
08/04/00 | AK | Kenai | Kenai Muni | 0/8909 | VOR/DME RWY 1L, AMDT 5A ...
08/04/00 | AK | Kenai | Kenai Muni | 0/8910 | ILS RWY 19R, Orig ...
08/04/00 | AK | Kenai | Kenai Muni | 0/8911 | VOR RWY 19R, AMDT 16A ...
08/04/00 | CA | Blythe | Blythe | 0/8899 | VOR or GPS-A AMDT 6 ...
08/04/00 | CA | Blythe | Blythe | 0/8900 | VOR/DME or GPS RWY 26 AMDT 5 ...
08/04/00 | KS | El Dorado | Captain Jack Thomas/El Dorado | 0/8917 | GPS RWY 33, Orig ...
08/04/00 | NJ | Newark | Newark Intl | 0/8901 | ILS RWY 22R AMDT 3 ...
08/04/00 | NJ | Newark | Newark Intl | 0/8902 | ILS RWY 22L AMDT 10 ...
08/04/00 | NJ | Newark | Newark Intl | 0/8903 | VOR/DME RWY 22R AMDT 4 ...
08/04/00 | NJ | Newark | Newark Intl | 0/8904 | VOR/DME RWY 22L Orig ...
08/04/00 | WI | Delavan | Lake Lawn | 0/8936 | NDB or GPS RWY 18, AMDT 2A ...
08/07/00 | AK | Kenai | Kenai Muni | 0/9097 | GPS RWY 1L, Orig-A ...
08/07/00 | CA | Santa Maria | Santa Maria Public/Captain G. Allan Hancock Field | 0/9107 | VOR or GPS RWY 12 AMDT 13A ...
08/07/00 | CA | Santa Maria | Santa Maria Public/Captain G. Allan Hancock Field | 0/9108 | ILS RWY 12 AMDT 9B ...
08/07/00 | MO | Rollq/Vichy | Rollq National | 0/9109 | VOR/DME RWY 4, AMDT 2B ...
08/07/00 | OK | ADA | ADA Muni | 0/9103 | GPS RWY 35, Orig ...
08/08/00 | GA | Atlanta | The William B. Hartsfield Atlanta Intl | 0/9172 | ILS RWY 9L AMDT 6B ...
08/08/00 | LA | Baton Rouge | Baton Rouge Metropolitan/Ryan Field | 0/9167 | RADAR-1, AMDT 10 ...
08/08/00 | LA | Lake Charles | Lake Charles Regional | 0/9168 | RADAR-1, AMDT 4 ... THIS REPLACES 0/8079
08/09/00 | IA | Hampton | Hampton Muni | 0/9244 | NDB RWY 17, AMDT 4 ...
08/09/00 | IA | Hampton | Hampton Muni | 0/9245 | VOR/DME RWY 35, AMDT 1 ...
08/09/00 | LA | Opelousas | St. Landry Parish-Ahart Field | 0/9214 | NDB or GPS RWY 17, AMDT 1A ...
08/09/00 | LA | Opelousas | St. Landry Parish-Ahart Field | 0/9215 | VOR/DME RWY 35, ORIG-A ...
08/09/00 | LA | Opelousas | St. Landry Parish-Ahart Field | 0/9216 | GPS RWY 35, ORIG ...
08/09/00 | WA | Seattle | Boeing Field/King County Intl | 0/9209 | ILS RWY 31L Orig ...
08/10/00 | AK | Adak Island | Adak NAF | 0/9300 | NDB/DME RWY 23, Orig ...
08/10/00 | FL | Miami | Miami Intl | 0/9335 | GPS RWY 9R, Orig-A ...
08/10/00 | LA | Lake Charles | Lake Charles Regional | 0/9324 | VOR/DME RNAV RWY 5, AMDT 3A ...
08/10/00 | MI | Newberry | Luce County | 0/9308 | VOR or GPS RWY 29, AMDT 11 ...
08/10/00 | MI | Newberry | Luce County | 0/9309 | VOR or GPS RWY 11, AMDT 11 ...
08/10/00 | MI | Three Rivers | Three Rivers Muni Dr. Haines | 0/9311 | RNAV RWY 22, ORIG ...
08/10/00 | NC | Siler City | Siler City Municipal | 0/9383 | RNAV RWY 22 Orig ...
08/10/00 | SC | Myrtle Beach | Myrtle Beach Intl | 0/9325 | ILS RWY 35 AMDT 1 ...
08/10/00 | SC | Myrtle Beach | Myrtle Beach Intl | 0/9326 | RNAV RWY 17 ...
08/10/00 | SC | Myrtle Beach | Myrtle Beach Intl | 0/9328 | RNAV RWY 35 ORIG ...
08/10/00 | SC | Myrtle Beach | Myrtle Beach Intl | 0/9329 | ILS RWY 17 AMDT 1 ...
08/10/00 | TN | Sparta | Upper Cumberland Regional | 0/9398 | ILS RWY 4 Orig ...
08/11/00 | CA | Sacramento | Sacramento Executive | 0/9458 | ILS RWY 2, AMDT 22 ...
08/11/00 | FM | Kosrae Island | Kosrae | 0/9464 | NDB/DME-A Orig ...
08/11/00 | LA | Ruston | Ruston Regional | 0/9452 | NDB RWY 18, Orig-B ...
08/11/00 | MT | Helena | Helena Regional | 0/9478 | VOR/DME or GPS-B, AMDT 6 ...
08/11/00 | MT | Helena | Helena Regional | 0/9479 | ILS RWY 27, AMDT 1 ...
08/14/00 | IA | Belle Plaine | Belle Plaine Muni | 0/9683 | GPS RWY 17, Orig ...
08/14/00 | IA | Belle Plaine | Belle Plaine Muni | 0/9684 | GPS RWY 35, Orig ...
08/14/00 | IA | Belle Plaine | Belle Plaine Muni | 0/9685 | NDB RWY 35, Orig ...
08/14/00 | IL | Bloomington-Normal | Central IL Regal Arpt at Bloomington-Normal | 0/9616 | ILS RWY 29, AMDT 8C ...
08/14/00 | IL | Taylorville | Taylorville Muni | 0/9643 | NDB RWY 18, AMDT 3A ...
08/14/00 | MI | Hancock | Houghton County Memorial | 0/9633 | LOC/DME BC RWY 13, AMDT 11B ...
08/14/00 | NH | Laconia | Laconia Muni | 0/9618 | NDB or GPS RWY 8 AMDT 8 ...
08/14/00 | OK | ADA | ADA Muni | 0/9635 | VOR/DME RWY 17, AMDT 1A ...
08/14/00 | OK | ADA | ADA Muni | 0/9640 | GPS RWY 17, ORIG ...
08/14/00 | OK | Ardmore | Ardmore Downtown Executive | 0/9642 | GPS RWY 35, ORIG ...
08/14/00 | OK | Ardmore | Ardmore Downtown Executive | 0/9658 | VOR/DME RNAV RWY 35, AMDT 5A ...
08/14/00 | OK | Bartlesville | Bartlesville Muni | 0/9712 | LOC RWY 17, AMDT 2 ...
08/14/00 | OK | Bartlesville | Bartlesville Muni | 0/9713 | VOR/DME RWY 35, AMDT 5 ...
08/14/00 | OK | Bartlesville | Bartlesville Muni | 0/9727 | VOR RWY 17, AMDT 10 ...
08/14/00 | OK | Bartlesville | Bartlesville Muni | 0/9729 | NDB RWY 17, AMDT 1 ...
08/14/00 | OK | Stillwater | Stillwater Regional | 0/9637 | VOR RWY 17, AMDT 13A ...
08/14/00 | VT | Barre-Montpelier | Edwater F. Knapp State | 0/9601 | ILS RWY 17 AMDT 5 ...
08/16/00 | LA | Lafayette | Lafayette Regional | 0/9738 | NDB or GPS RWY 22L, AMDT 4 ...
08/16/00 | NJ | Berlin | Camden County | 0/9780 | GPS RWY 5, Orig ...
08/16/00 | OK | Bartlesville | Bartlesville Muni | 0/9753 | GPS RWY 17, ORIG-A ...
08/16/00 | OK | Bartlesville | Bartlesville Muni | 0/9754 | GPS RWY 35, ORIG-A ...
08/16/00 | OK | Chickasha | Chickasha Muni | 0/9772 | GPS RWY 17, Orig ...
08/16/00 | OK | Chickasha | Chickasha Muni | 0/9773 | GPS RWY 35, Orig ...
08/16/00 | OK | Chickasha | Chickasha Muni | 0/9774 | VOR/DME RNAV RWY 35, AMDT 1 ...

[FR Doc. 00-21635 Filed 8-23-00; 8:45 am]

BILLING CODE 4910-13-M